OFFICE OF PERSONNEL MANAGEMENT

Amendment of a System of Records

AGENCY: U.S. Office of Personnel Management (OPM).

ACTION: Notice of amendment to system of records.

SUMMARY: OPM has amended an existing system of records subject to the Privacy Act of 1974 (5 U.S.C. 552a). This action is necessary to meet the requirements of the Privacy Act to publish in the Federal Register notice of the existence and character of system of records maintained by the agency (5 U.S.C. 552a(e)(4)).

DATES: The changes became effective in November 2003. The system has been operational for 6 years without incident. Comments will be accepted until September 30, 2009.

ADDRESSES: Written comments must be sent to the U.S. Office of Personnel Management, Presidential Management Fellows Program, Attn: Rob Timmins (OPM\Central-11), 1900 E Street, NW., Room 1425, Washington, DC 20415.

FOR FURTHER INFORMATION CONTACT: Rob Timmins, (202) 606-2674, fax (202) 606-3040, or e-mail to Rob.Timmins@opm.gov. Please include your complete mailing address with your request.

SUPPLEMENTARY INFORMATION: This notice serves to update and amend collection, analysis, and maintenance of OPM\Central-11 (Presidential Management Fellows Program) as a result of new program regulations and an increased use of automated information technology. Revisions include the following: (1) Authority of Program now results from Executive Order 13318, Presidential Management Fellows Program, signed by President George W. Bush on November 21, 2003; (2) The Executive order changed the name from Presidential Management Intern (PMI) Program to the Presidential Management Fellows (PMF) Program; (3) There is no longer a category of records collection for semi-finalists; (4) As a result of the OPM re-organization in March 2003, the system location has been updated to reflect current name; and (5) The system manager contact has been updated to reflect the new PMF Program organization and location.

John Berry,
Director, U.S. Office of Personnel Management.

OPM\CENTRAL-11

SYSTEM NAME:

Presidential Management Fellows (PMF) Program Records.

SYSTEM LOCATION:

U.S. Office of Personnel Management, Human Resources Products and Services Division, Center for Leadership Capacity Services, Succession Planning Programs, Presidential Management Fellows Program, 1900 E Street, NW., Room 1425, Washington, DC 20415.

CATEGORIES OF INDIVIDUALS COVERED BY THE SYSTEM:

This system contains records on current and former PMFs and students pursuing graduate degrees who have been nominated by their graduate schools for consideration for the PMF Program, as well as contact information for Program stakeholders (e.g., Agency PMF Coordinators, graduate school Nomination Officials, supervisors of PMFs).

CATEGORIES OF RECORDS IN THE SYSTEM:

These records contain information about the covered individuals relating to name, Social Security Number, academic background, home address, telephone numbers, e-mail addresses, employment history, Indian and veterans' preference, and other personal information needed during the application, nomination, assessment, and selection processes, and as needed for training and development opportunities impacting PMFs and participating agencies. This system also will contain confidential evaluation information and assessment scores not available to the public.

AUTHORITY FOR MAINTENANCE OF THE SYSTEM:

Executive Order 13318, signed by President George W. Bush on November 21, 2003.

PURPOSE(S):

These records are used by program personnel for the following reasons:

a. To determine basic program eligibility and to evaluate the nominees in a structured assessment process conducted by OPM.

b. To group the applicants into various categories (e.g., applicants, nominees, finalists, and non-selectees) and make a final determination as to those candidates who will be referred (as finalists to become Fellows) to participating agencies for employment consideration.

c. For program evaluation functions to determine the effectiveness of the program and to improve program operations.

d. To facilitate interaction and communication between PMF Program participants and alumni.

e. To track PMF appointments, certifications, conversions, reappointments, withdrawals, resignations, extensions, waivers and deferrals.

f. To track agency reimbursements for PMF appointments.

g. To schedule and track PMF participation in Program-sponsored training and development events (e.g., orientation, forums, graduation).

h. To track contact information of applicants, nominees, finalists, Fellows, Agency PMF Coordinators, PMF supervisors, graduate school Nomination Officials and other relevant stakeholders.

ROUTINE USES OF RECORDS MAINTAINED IN THE SYSTEM, INCLUDING CATEGORIES OF USERS AND THE PURPOSES OF SUCH USES:

These records and information in these records may be used:

1. To refer pertinent information to the appropriate Federal, State or local agency responsible for investigating, prosecuting, enforcing or implementing a statute, rule, regulation or order when there is an indication of a violation or potential violation of civil or criminal law or regulation.

2. To provide information to a congressional office from the record of an individual in response to an inquiry from the congressional office made at the request of the individual.

3. To disclose information to another Federal agency, a Court, or a party in litigation before a court or in an administrative proceeding being conducted by a Federal agency, when the Government is a party to the judicial or administrative proceeding. In those cases where the Government is not a party to the proceeding, records may be disclosed if a subpoena has been signed by a judge.

4. To disclose information to the U.S. Department of Justice, or in a proceeding before a court, adjudicative body or other administrative body before which OPM is authorized to appear, when:

a. OPM, or any component thereof; or

b. Any employee of OPM in his or her official capacity; or

c. Any employee of OPM in his or her individual capacity where the Department of Justice or OPM has agreed to represent the employee; or

d. The United States, when OPM determines that litigation is likely to affect OPM or any of its components, is a party to litigation or has an interest in such litigation, and the use of such records by the Department of Justice or OPM is deemed by OPM to be relevant and necessary to the litigation provided, however, that the disclosure is compatible with the purpose for which records were collected.

5. To disclose information to officials of the Merit Systems Protection Board or the Office of the Special Counsel, when requested in connection with appeals, special studies of the civil service and other merit systems, review of OPM rules and regulations, investigations of alleged or possible prohibited personnel practices, and such other functions, e.g., as prescribed in 5 U.S.C. 1205 and 1206, or as may be authorized by law.

6. To disclose information to the Equal Employment Opportunity Commission, when requested, in connection with investigations into alleged or possible discrimination practices in the Federal sector, examination of Federal affirmative employment programs, compliance by Federal agencies with the Uniform Guidelines on Employee Selection Procedures, or other functions vested in the Commission.

7. To disclose information to the Federal Labor Relations Authority or its General Counsel, when requested, in connection with investigations of allegations of unfair labor practices or matters before the Federal Service Impasses Panel.

8. To refer candidates to Federal agencies for employment consideration.

9. To refer candidates to State and local governments, congressional offices, international organizations, and other public offices, with permission of the candidates, for the purpose of employment consideration and developmental opportunities.

10. To refer Fellows for consideration for reassignment and promotion within the employing agencies.

11. As a data source for management information of summary descriptive statistics and analytical studies in support of the function for which the records are collected and maintained, or for related personnel research functions or manpower studies, or to locate individuals for personnel research.

12. To request information from a Federal, State, or local agency maintaining civil, criminal or other information relevant to an agency decision concerning the hiring or retention of a candidate.

13. To provide an academic institution with information on a recent graduate's participation in the PMF Program, covering application, nomination, assessment, selection and appointment to a Federal position at a certain grade level, and graduation (completion of the PMF Program).

POLICIES AND PRACTICES OF STORING, RETRIEVING, SAFEGUARDING, RETAINING AND DISPOSING OF RECORDS IN THE SYSTEM:

STORAGE:

These records are stored on forms, lists, magnetic tape, database systems, Web site, and media storage devices (e.g., floppy disks, flash drives, CD-ROMs, etc.).

RETRIEVABILITY:

These records are indexed by name of applicants, maiden name (if applicable), graduate schools, State of residence, Social Security Number, graduate/undergraduate degree, Indian and/or veterans' preference, status in PMF Program (e.g., applicant, nominee, finalist, non-finalist, Fellow), citizenship, foreign language(s), geographic employment preference(s), and any combination of these.

SAFEGUARDS:

These records are maintained in lockable metal file cabinets or a secured office suite and in computerized systems accessible to only those program staff whose official duties necessitate such access. Confidential passwords are required for access to these automated records. Computerized systems adhere to current IT and security policies and requirements.

RETENTION AND DISPOSAL:

Application files are maintained for a maximum of three (3) years; the automated data base of participant information will be destroyed when no longer needed for administrative purposes. Tapes are erased and manual records are either archived or destroyed. The PMF Program maintains a database system tracking all applicant history and program status from 1997 to the present. All hardcopies, as a result of the above described processes, are maintained in lockable filing cabinets and are archived in accordance with OPM's Records Management Handbook and records schedules.

SYSTEM MANAGER(S) AND ADDRESS:

Presidential Management Fellows Program Office, U.S. Office of Personnel Management, 1900 E Street, NW., Room 1425, Washington, DC 20415, Office (202) 606-1040, Fax (202) 606-3040, E-mail pmf@opm.gov, and Branch Chief/Technical Manager, Technical Services Group, U.S. Office of Personnel Management, 4685 Log Cabin Drive, Macon, GA 31204, Office (478) 744-2373, Fax (478) 744-2179.

NOTIFICATION PROCEDURE:

Individuals wishing to inquire whether this system contains information about them should contact the system managers. You must furnish the following information for your records to be located and identified:

a. Full Name at Time of Application.

b. Maiden Name (if applicable).

c. Home Address referenced at Time of Application.

d. Nominating Graduate School.

e. Graduate Degree referenced at Time of Application.

f. Year Applied to Program.

RECORD ACCESS PROCEDURE:

Specific materials in this system have been exempted from Privacy Act provisions at 5 U.S.C. 552a(d), regarding access to and amendment of records. The section of the notice, titled Systems Exempted from Certain Provisions of the Act, indicates the kinds of materials exempted and the reasons for exempting them from access.

Current or former Presidential Management Fellows or nominees who wish to gain access to their non-exempt records should direct such a request in writing to the system managers. You must furnish the following information for your records to be located and identified.

a. Full Name at Time of Application.

b. Maiden Name (if applicable).

c. Home Address referenced at Time of Application.

d. Nominating Graduate School.

e. Graduate Degree referenced at Time of Application.

f. Year Applied to Program.

Individuals must also comply with OPM's Privacy Act regulations regarding verification of identity and access to records (5 CFR 297).

CONTESTING RECORD PROCEDURE:

Specific material in this system has been exempted from Privacy act provisions at 5 U.S.C. 552a(d), regarding access to and amendment of records. The section of the notice titled Systems Exempted from Certain Provisions of the Act, indicates the kinds of materials exempted and the reasons for exempting them from amendment.

Current or former Presidential Management Fellows or nominees wishing to request amendment of their non-exempt records should contact the system managers. You must furnish the following information for your records to be located and identified:

a. Full Name at Time of Application.

b. Maiden Name (if applicable).

c. Home Address referenced at Time of Application.

d. Nominating Graduate School.

e. Graduate Degree referenced at Time of Application.

f. Year Applied to Program.

Individuals must also comply with OPM's Privacy Act regulations regarding verification of identity and amendment of records (5 CFR 297).

RECORD SOURCE CATEGORIES:

Information in this system of records is obtained from:

a. The individual to whom it applies;

b. Nominating graduate school Deans, Chairpersons, and/or Academic Program Directors;

c. Federal, State, and local officials involved in the screening and selection process;

d. Employing agencies.

SYSTEM EXEMPTED FROM CERTAIN PROVISIONS OF THE ACT:

This system contains testing and examination materials that are used solely to determine individual qualifications for appointment or promotion in the Federal service. The Privacy Act at 5 U.S.C. 552a(k)(6), permits an agency to exempt all such testing or examination material and information from certain provisions of the Act when disclosure of the material would compromise the objectivity or fairness of the testing or examination process. OPM has claimed exemptions from the requirements of 5 U.S.C. 552a(d), which relate to access to and amendment of records, for any such testing or examination materials in the system.

[FR Doc. E9-20091 Filed 8-20-09; 8:45 am]

BILLING CODE 6325-38-P